ENVIRONMENTAL PROTECTION AGENCY

[FRL-6586-2]

Environmental Laboratory Advisory Board, Meeting Dates and Agenda

AGENCY: Environmental Protection Agency (EPA).

ACTION: Notice of meeting.

SUMMARY: Pursuant to the Federal Advisory Committee Act, Public Law 92-463, as amended (5 U.S.C., App 2) notification is hereby given of an open meeting of the Environmental Laboratory Advisory Board (ELAB).

DATES: The meeting will be held on May 11, 2000, from 1:00 p.m. to 4:00 p.m. (EST).

ADDRESSES: While the meeting will be conducted by teleconference, the public is invited to participate in the teleconference by contacting Jeanne Hankins.

SUPPLEMENTARY INFORMATION: The Board will discuss the work being conducted by its subcommittees and any new issues that may be brought to the Board's attention.

The meeting is open to the public and time will be allotted for public comment. Written comments are encouraged and should be directed to David Friedman; USEPA; 1300 Pennsylvania Avenue, NW (8101R); Washington, DC 20460.

FOR FURTHER INFORMATION CONTACT: David Friedman; Designated Federal Officer; USEPA; 1300 Pennsylvania Avenue, NW (8101R); Washington, DC 20460. If questions arise, please contact Mr. Friedman by phone at (202) 564-6662, by facsimile at (202) 565-2432 or by email at friedman.david@epa.gov. Persons desiring to participate, by telephone, in this meeting, should call Jeanne Hankins at 919-541-1120.

Dated: April 20, 2000.
Peter Durant,
Acting Deputy Assistant Administrator for Management, Office of Research and Development.

[FR Doc. 00-10523 Filed 4-26-00; 8:45 am]

BILLING CODE 6560-50-P